DEPARTMENT OF LABOR

Employment and Training Administration

[TA-W-70,110]

Columbia Forest Products, Inc., Presque Isle Division; Presque Isle, Maine; Notice of Revised Determination on Reconsideration

On October 7, 2010, the Department of Labor issued an Affirmative Determination Regarding Application for Reconsideration for the workers and former workers of Columbia Forest Products, Inc., Presque Isle Division, Presque Isle, Maine (subject firm). The Department's Notice of determination was published in the Federal Register on October 25, 2010 (75 FR 65514). Workers produced hardwood veneer. The worker group does not include leased workers or workers supplied from a temporary staffing agency.

A careful review of the previously-submitted customer surveys and new information obtained during the reconsideration investigation, including U.S. aggregate imports of like or directly competitive articles and other available material, revealed that, during the period of investigation, imports of articles like or directly competitive with hardwood veneer produced by the subject firm have increased, and that the increased imports of hardwood veneer (or like or directly competitive articles) contributed importantly to the worker group separations and sales/production declines at the subject firm.

Conclusion

After careful review of the additional facts obtained during the reconsideration investigation, I determine that workers of Columbia Forest Products, Inc., Presque Isle Division, Presque Isle, Maine, who are engaged in employment related to the production of hardwood veneer, meet the worker group certification criteria under Section 222(a) of the Act, 19 U.S.C. 2272(a). In accordance with Section 223 of the Act, 19 U.S.C. 2273, I make the following certification:

All workers of Columbia Forest Products, Inc., Presque Isle Division, Presque Isle, Maine, who became totally or partially separated from employment on or after May 18, 2008, through two years from the date of this revised certification, and all workers in the group threatened with total or partial separation from employment on date of certification through two years from the date of certification, are eligible to apply for adjustment assistance under Chapter 2 of Title II of the Trade Act of 1974, as amended.

Signed in Washington, DC this 23rd day of March, 2011.
Del Min Amy Chen,
Certifying Officer, Office of Trade Adjustment Assistance.

[FR Doc. 2011-8240 Filed 4-6-11; 8:45 am]

BILLING CODE 4510-FN-P